ENVIRONMENTAL PROTECTION AGENCY

[EPA-HQ-SFUND-2015-0100; FRL-9985-48-OEI]

Information Collection Request Submitted to OMB for Review and Approval; Comment Request; Continuous Release Reporting Requirement Including Analysis for Use of Continuous Release Reporting Forms (Renewal)

AGENCY: Environmental Protection Agency (EPA).

ACTION: Notice.

SUMMARY: The Environmental Protection Agency (EPA) has submitted an information collection request (ICR), Continuous Release Reporting Requirement Including Analysis for Use of Continuous Release Reporting Forms (EPA ICR No. 1445.14, OMB Control No. 2050-0086) to the Office of Management and Budget (OMB) for review and approval in accordance with the Paperwork Reduction Act. This is a proposed extension of the ICR, which is currently approved through November 30, 2018. Public comments were previously requested via the Federal Register on May 30, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 27, 2018.

ADDRESSES: Submit your comments, referencing Docket ID No. EPA-HQ-SFUND-2015-0100, online using www.regulations.gov (our preferred method), by email to superfund.docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Wendy Hoffman, Regulations Implementation Division, Office of Emergency Management, (5104A), Environmental Protection Agency, 1200 Pennsylvania Ave. NW, Washington, DC 20460; telephone number: (202) 564-8794; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Continuous Release Reporting Requirements (CRRR) under Section 103(a) of CERCLA, as amended, requires the person in charge of a vessel or facility immediately to notify the National Response Center (NRC) of a hazardous substance release into the environment if the amount of the release equals or exceeds the substance's reportable quantity (RQ). If the source and chemical composition of the continuous release do not change and the level of the continuous release does not significantly increase, a follow-up written report to the EPA Region one year after submission of the initial written report is also required. The person in charge must notify the NRC and EPA Region of a change in the source or composition of the release, and under section 103(a) of CERCLA, a significant increase must be reported immediately to the NRC. Finally, any change in information submitted in support of a continuous release notification must be reported to the EPA Region. Section 103(f)(2) of CERCLA provides facilities relief from per-occurrence notification release requirements if the subject release is continuous and stable in quantity and rate.

CRR allows the Federal government to determine whether a Federal response action is required to control or mitigate any potential adverse effects to public health, welfare or the environment. The release information is also available to EPA program offices and other Federal agencies who evaluate the potential need for additional regulations, new permitting requirements for specific substances or sources, or improved emergency response planning. State and local government authorities and facilities subject to the CRRR use release information for local emergency response planning. The public, which has access to release information through the Freedom of Information Act, may request release information on what types of releases are occurring in different localities and what actions, if any, are being taken to protect public health, welfare and the environment.

Form numbers: EPA Form 6100-10, Continuous Release Reporting Form.

Respondents/affected entities: Entities potentially affected by this action are not defined. The use and release of hazardous substances are pervasive throughout industry. EPA expects many different industrial categories to report hazardous substance releases under the provisions of the CRRR. No one industry sector or group of sectors is disproportionately affected by the information collection burden.

Respondent's obligation to respond: Mandatory if respondents want reduced reporting for continuous releases.

Estimated number of respondents: 4,192.

Frequency of response: On occasion.

Total estimated burden: 334,472 hours (average per year). Burden is defined at 5 CFR 1320.03(b).

Total estimated cost: $19,797,899 (average per year), including $243,200 annualized capital or operation & maintenance costs (average per year).

Changes in estimates: There is an increase of 8,890 hours in the total estimated respondent burden compared with the ICR currently approved by OMB. This increase in burden results primarily from use of data on the actual number of continuous release reports from several regions and applying a growth rate consistent with prior years reporting. The average annual percent increase in facilities in the previous ICR was approximately 7.5%. The same percent increase was assumed for this ICR. The unit burden hours per respondent information collection activity remains the same as the previous ICR. In addition, this ICR includes the requirements under EPCRA section 304, which were inadvertently omitted in the previous renewal.

Courtney Kerwin,
Director, Regulatory Support Division.

[FR Doc. 2018-25777 Filed 11-26-18; 8:45 am]

BILLING CODE 6560-50-P